ENVIRONMENTAL PROTECTION AGENCY

[EPA-HQ-OLEM-2023-0573; FRL-12422-01-OMS]

Information Collection Request Submitted to the Office of Management and Budget for Review and Approval; Comment Request; RCRA Section 3007 Survey for Container Reconditioning Facilities (New)

AGENCY: Environmental Protection Agency (EPA).

ACTION: Notice.

SUMMARY: The Environmental Protection Agency (EPA) has submitted an information collection request (ICR), RCRA Section 3007 Survey for Drum Reconditioning Facilities (EPA ICR Number 2800.01, OMB Control Number 2050-NEW) to the Office of Management and Budget (OMB) for review and approval in accordance with the Paperwork Reduction Act. This is a request for approval of a new collection. Public comments were previously requested via the Federal Register on April 24, 2024, during a 60-day comment period. This notice allows for an additional 30 days for public comments.

DATES: Comments may be submitted on or before December 23, 2024.

ADDRESSES: Submit your comments, referencing Docket ID Number EPA-HQ-OLEM-2023-0573, to EPA online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Wise, Office of Resource Conservation and Recovery, Materials Recovery and Waste Management Division (MC 5303P), Environmental Protection Agency, 1200 Pennsylvania Ave. NW, Washington, DC 20460; telephone number: 202-566-0520; email address: wise.patrick@epa.gov.

SUPPLEMENTARY INFORMATION: This is a request for approval of a new collection. An agency may not conduct or sponsor and a person is not required to respond to a collection of information unless it displays a currently valid OMB control number.

Public comments were previously requested via the Federal Register on April 24, 2024, during a 60-day comment period (89 FR 31199). This notice allows for an additional 30 days for public comments. Supporting documents, which explain in detail the information that the EPA will be collecting, are available in the public docket for this ICR. The docket can be viewed online at www.regulations.gov or in person at the EPA Docket Center, WJC West, Room 3334, 1301 Constitution Ave., NW, Washington, DC. The telephone number for the Docket Center is 202-566-1744. For additional information about EPA's public docket, visit http://www.epa.gov/dockets.

Abstract: This information collection will provide the EPA with necessary information about the operations of drum reconditioners and similar facilities that clean out and recondition used industrial containers. The Agency needs this information to determine whether future regulatory or non-regulatory action is needed to address environmental issues identified in the EPA's Drum Reconditioner Damage Case Report, published in September 2022. The data collected through this ICR will advance the Agency's mission of protecting human health and the environment by determining the current engineering controls and standard practices employed at these facilities, and by collecting additional information about the environmental impacts these facilities may have on surrounding communities and the wider environment. All information submitted to the agency in response to the ICR that is claimed as confidential will be managed in accordance with applicable laws and EPA's regulations governing treatment of confidential business information at 40 CFR part 2, subpart B. Any information determined to constitute a trade secret will be protected under 18 U.S.C. 1905.

Form Numbers: None.

Respondents/affected entities: This ICR applies to all facilities engaged in drum and/or industrial container reconditioning and/or recycling.

Respondent's obligation to respond: Mandatory under section 3007 of RCRA (42 U.S.C. 6927).

Estimated number of respondents: 216 (total).

Frequency of response: One-time response.

Total estimated burden: 1,333 hours (per year). Burden is defined at 5 CFR 1320.03(b).

Total estimated cost: $136,000 (per year), which includes $0 annualized capital or operation & maintenance costs.

Changes in the Estimates: Not applicable; this is a new ICR, so there is no previous burden.

Courtney Kerwin,
Director, Information Engagement Division.

[FR Doc. 2024-27311 Filed 11-20-24; 8:45 am]

BILLING CODE 6560-50-P